DEPARTMENT OF LABOR

Employment and Training Administration

[TA-W-82,180]

Comcast Cable, West Division Customer Care, Morgan Hill, California; Notice of Negative Determination on Reconsideration

On January 31, 2013, the Department of Labor issued an Affirmative Determination Regarding Application for Reconsideration for the workers and former workers of Comcast Cable, West Division Customer Care, Morgan Hill, California (subject firm). The Department's Notice was published in the Federal Register on February 15, 2013 (78 FR 11226). The subject worker group supplies call center services, including sales and technical assistance.

Pursuant to 29 CFR 90.18(c), reconsideration may be granted under the following circumstances: (1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on no shift in services and no company imports of services like or directly competitive services with those supplied by the workers at the subject firm.

The request for reconsideration alleges that the subject firm had shifted the supply of like or directly competitive services to a location in Mexico and that the subject worker group had supplied services like or directly competitive with the services supplied by the workers employed at two other Comcast Cable locations who were eligible to apply for Trade Adjustment Assistance (TA-W-82,140 and TA-W-82,025).

Information obtained by the subject firm by the Department during the reconsideration investigation confirmed that neither a shift in the supply of services like or directly competitive with those supplied by the subject worker group to a foreign country by the subject firm nor increased imports of services like or directly competitive with those supplied by the subject worker group contributed importantly to subject worker group separations. Further, the services supplied by workers covered by TA-W-82,140 and TA-W-82,025 are related to repairs whereas the services supplied by the subject worker group during the relevant period are related to sales. In addition, the services formerly supplied by the subject worker group are being supplied by other domestic Comcast cable facilities.

Therefore, the Department determines that 29 CFR 90.18(c) has not been met.

Conclusion

After careful review, I determine that the requirements of Section 222 of the Act, 19 U.S.C. 2272, have not been met and, therefore, affirm the denial of the petition for group eligibility of Comcast Cable, West Division Customer Care, Morgan Hill, California, to apply for adjustment assistance, in accordance with Section 223 of the Act, 19 U.S.C. 2273.

Signed in Washington, DC on this 9th day of July, 2013.
Del Min Amy Chen,
Certifying Officer, Office of Trade Adjustment Assistance.

[FR Doc. 2013-19186 Filed 8-7-13; 8:45 am]

BILLING CODE 4510-FN-P